DEPARTMENT OF ENERGY

Federal Energy Regulatory Commission

[Docket No.: ER02-2001-000]

Revised Public Utility Filing; Requirements for Electric Quarterly Reports; Notice of Electric Quarterly Reports Users Group Meeting

This notice announces a meeting of the Electric Quarterly Reports (EQR) Users Group to be held Wednesday, July 13, 2011, in the Commission Meeting Room at 888 First Street, NE., Washington, DC and via teleconference. The meeting will run from 9 a.m. to 12 p.m. (EDT).

During the meeting, Commission staff and EQR users will discuss staff plans for the EQR redesign with software implementation now adopting an XML technical approach. A tentative agenda for the conference is attached.

All interested persons are invited to attend or call in for the meeting. Those interested in attending either in person or by phone hook-up are asked to register no later than July 6, 2011, on the FERC Web site at https://www.ferc.gov/whats-new/registration/eqr-brief-07-13-11-form.asp. There is no registration fee. Information for the meeting will be sent to registered attendees. Registration will help staff to determine the proper accommodations needed for this meeting.

Documents to be discussed at the meeting will be posted on the EQR Users Group and Workshops page on FERC.gov at http://www.ferc.gov/docs-filing/eqr/groups-workshops.asp.

Interested persons wishing to file comments may do so under the above-captioned Docket Number. Those filings will be available at the Commission or may be viewed on the Commission's Web site at http://www.ferc.gov, using the “eLibrary” link. Enter the docket number excluding the last three digits in the docket number field to access the document. For assistance accessing document on eLibrary, contact FERC Online Support at FERCOnlineSupport@ferc.gov or via phone at (866) 208-3676 (toll-free). For TTY, contact (202) 502-8659.

For additional information about the meeting, please contact Mark Blazejowski of FERC's Office of Enforcement at (202) 502-6055 or by e-mail at eqr@ferc.gov.

FERC conferences and meetings are accessible under section 508 of the Rehabilitation Act of 1973. For accessibility accommodations please send an e-mail to accessibility@ferc.gov or call toll free (866) 208-3372 (voice) or 202-502-8659 (TTY), or send a fax to 202-208-2106 with the required accommodations.

Dated: June 24, 2011.
Kimberly D. Bose,
Secretary.

Attachment: Meeting Agenda

Tentative Agenda EQR Users Group Meeting; Commission Meeting Room, Wednesday, July 13, 2011

9-9:15 a.m. Welcome, Introductions, Logistics.

9:15-10:15 a.m. Discussion of Reasons for EQR Redesign.

• Performance and Scalability.

• Modernization and Support.

• Stability.

• Links to Other FERC Software Systems.

• Out of Software Supplying/Support Business.

10:15-10:30 a.m. Break.

10:30-11:30 a.m.

• Xsd.

• Xml.

• Xsd Sample.

• Xml Sample.

• What is schema validation.

• How is schema validation done.

• EQR schema validation diagram.

11:30 a.m.-12 p.m. Review and Wrap-up.

[FR Doc. 2011-16471 Filed 6-29-11; 8:45 am]

BILLING CODE 6717-01-P